DEPARTMENT OF AGRICULTURE

Rural Utilities Service

Tri-State Generation and Transmission Association, Inc., Notice of Intent To Hold Public Scoping Meetings and Prepare an Environmental Assessment

AGENCY: Rural Utilities Service, USDA.

ACTION: Notice of Intent To Hold Public Scoping Meetings and Prepare an Environmental Assessment.

SUMMARY: The Rural Utilities Service (RUS), an agency of the United States Department of Agriculture, intends to hold public scoping meetings and prepare an Environmental Assessment (EA) to meet its responsibilities under the National Environmental Policy Act (NEPA) and RUS's Environmental Policies and Procedures (7 CFR part 1794) in connection with potential impacts related to a proposed project in Colorado by Tri-State Generation and Transmission Association, Inc. (Tri-State). The proposed Burlington-Wray 230-kilovolt (kV) Transmission Project (Proposal) consists of the following: a proposed new single-circuit 230-kV electric transmission line between the existing Burlington Substation in Kit Carson County and the existing Wray Substation in Yuma County. Tri-State is requesting that RUS provide financial assistance for the Proposal.

DATES: RUS will conduct public scoping meetings in an open house format to provide information and solicit comments for the preparation of the EA. The scoping meetings will be held on the following dates: Tuesday, March 6, 2012, from 5-8 p.m. at the Burlington Community Center, 340 South 14th Street, Burlington, Colorado 80807; Wednesday, March 8, 2012, 5-8 p.m. at the Wray Roundhouse, 245 West 4th Street, Wray, Colorado 80758. All written questions and comments must be received on or before March 23, 2012.

ADDRESSES: An Alternative Evaluation Study (AES) and Macro Corridor Study (MCS) have been prepared for the proposed project. All documents are available for review prior to and at the public scoping meetings. The reports are available at the RUS address provided in this notice and on the agency's Web site: http://www.rurdev.usda.gov/UWP-ea.htm. The documents are also available for review at the offices of Tri-State and its member cooperatives K.C. Electric Association and Y-W Electric Association. In addition, the following repositories will have the AES and MCS available for public review:

Tri-State Generation and Transmission Association, Inc., 1100 West 116th Avenue, Westminster, Colorado 80234-2814.

K.C. Electric Association, 281 Main Street, Stratton, Colorado 80836.

Y-W Electric Association, 1016 Grants Way, Wray, Colorado 80758-1915.

Wray Public Library, 301 W. 7th Street, Wray, Colorado 80758.

Burlington Public Library, 321 14th Street, Burlington, CO 80807.

FOR FURTHER INFORMATION CONTACT: To obtain copies of the EA, to comment on the EA, or for further information, contact Dennis Rankin, Environmental Protection Specialist, USDA Rural Utilities Service, 1400 Independence Avenue SW., Stop 1571, Washington, DC 20250-1571, Telephone: (202) 720-1953, Facsimile: (202) 690-0649, or email dennis.rankin@wdc.usda.gov.

SUPPLEMENTARY INFORMATION: The primary purpose for the Proposal is to alleviate transmission system limitations in eastern Colorado, improve Tri-State's ability to dispatch existing generation resources in eastern Colorado, and improve Tri-State's ability to deliver energy to native load customers. The proposed action also would provide a transmission outlet for renewable energy generation in eastern Colorado.

Tri-State is seeking funding from RUS for the Proposal. Prior to making a financial decision about whether to provide financial assistance for a proposed project, RUS is required to conduct an environmental review under the NEPA in accordance with the RUS Environmental Policies and Procedures codified in 7 CFR part 1794. Government agencies, private organizations, and the public are invited to participate in the planning and analysis of the proposed action. Representatives from the RUS and Tri-State will be available at the scoping meetings to discuss the environmental review process, describe the Proposal, discuss the scope of environmental issues to be considered, answer questions, and accept comments. RUS and Tri-state will use comments and input provided by all interested parties in the preparation of an Environmental Assessment Tri-State will submit the EA to RUS for review. RUS will use the environmental document to determine the significance of the impacts of the Proposal and may adopt the environmental document as its EA for the proposal. RUS's EA will be available for review and comment for 30 days. Announcement of the availability of the EA will be published in the Federal Register and in newspapers with circulation in the project area.

Should RUS determine that the preparation of an Environmental Impact Statement is not necessary, it will prepare a Finding of No Significant Impact (FONSI). Announcement of the availability of a FONSI will be published in the Federal Register and in newspapers with circulation in the project area. Any final action by RUS related to the Proposal will be subject to, and contingent upon, compliance with all relevant Federal, State and local environmental laws and regulations and completion of the environmental review procedures as prescribed by RUS's Environmental Policies and Procedures (7 CFR part 1794).

Dated: February 15, 2012.
Mark S. Plank,
Director, Engineering and Environmental Staff, USDA, Rural Utilities Service.

[FR Doc. 2012-4082 Filed 2-21-12; 8:45 am]

BILLING CODE P